DEPARTMENT OF DEFENSE

Office of the Secretary

TRICARE Over-the-Counter Drug Demonstration Project

AGENCY: Office of the Secretary, DoD.

ACTION: Notice of modifications and an extension to the TRICARE over-the-counter drug demonstration project.

SUMMARY: This notice is to advise interested parties of modifications to and an extension of the demonstration project entitled “TRICARE Over-the-Counter Drug Demonstration Project.” The original demonstration notice was published on June 15, 2007 (72 FR 33208; FR Doc. E7-11558) and described a demonstration project to evaluate the costs/benefits and beneficiary satisfaction of providing OTC drugs under the pharmacy benefits program when the selected OTC drugs are determined to be clinically effective. The demonstration was to be conducted until the implementation of the combined TRICARE mail and retail contract (TPharm) which will be November 4, 2009. This demonstration project will now be modified and extended for three additional years (November 4, 2012).

DATES: The modification and extension of the demonstration project is effective from November 4, 2009, to November 4, 2012.

FOR FURTHER INFORMATION CONTACT: Colonel Everett McAllister, TRICARE Management Activity, Pharmaceutical Operations Directorate, telephone (703) 681-2890.

SUPPLEMENTARY INFORMATION:

A. Background

For additional information on the TRICARE Over-the-Counter Drug Demonstration Project, see 72 FR 33208 (June 15, 2007).

B. Description of Modifications to the Demonstration Project

(1) Paragraph B(2) of the original notice at 72 FR 33209 is revised to read as follows:

OTC drug availability through the demonstration project. Eligible candidates for the demonstration are those who have a prescription for a prescription item that has an approved OTC drug equivalent, as defined by the program. The process used to verify eligibility will depend upon the dispensing venue the beneficiary chooses to use. Not all OTC drugs eligible for dispensing through this project will be available at all dispensing venues. The Pharmacy Program Office will communicate OTC drug availability through the use of the TRICARE Web site (http://www.tricare.mil/pharmacy), public affairs outreach, and through the representative military beneficiary organizations.

(2) Paragraph B(4) of the original notice at 72 FR 33209 and 33210 is revised to read as follows:

Cost sharing requirements. Until a modification to the new pharmacy contract software can occur to accept a $0 cost share, beneficiaries will be charged a non-reimbursable TRICARE cost share of $3 identical to that charged for a generic pharmaceutical agent. The $3 cost share will apply until the earlier of January 1, 2010 or the date on which systems changes can be made to accommodate processing of the retail network pharmacy and mail order pharmacy claims with a $0 cost share.

(3) Paragraph B(5) of the original notice at 72 FR 33210 is revised to read as follows:

Period of demonstration. The modification of the demonstration project will be effective November 4, 2009. This demonstration project will be extended for three additional years (November 4, 2012).

Dated: December 11, 2009.
Mitchell S. Bryman,
Alternate OSD Federal Register Liaison Officer, Department of Defense.

[FR Doc. E9-29864 Filed 12-15-09; 8:45 am]

BILLING CODE 5001-06-P